ENVIRONMENTAL PROTECTION AGENCY

40 CFR Part 302

Designation, Reportable Quantities, and Notification

CFR Correction

This rule is being published by the Office of the Federal Register to correct an editorial or technical error that appeared in the most recent annual revision of the Code of Federal Regulations.

In Title 40 of the Code of Federal Regulations, Parts 300 to 399, revised as of July 1, 2023, Appendix B to § 302.4 as published in the July 1, 2021, revision of title 40, parts 300 to 399, is reinstated.

[FR Doc. 2023-27993 Filed 12-18-23; 8:45 am]

BILLING CODE 0099-10-P